DEPARTMENT OF DEFENSE

Department of the Air Force

Second Record of Decision for the Barry M. Goldwater Range East Range Enhancements Final Environmental Impact Statement

ACTION: Notice of Availability (NOA) of a Second Record of Decision (ROD).

SUMMARY: On May 15, 2013, the United States Air Force signed the Second ROD for the Barry M. Goldwater Range East Range Enhancements Final Environmental Impact Statement. This ROD states the Air Force decision to implement three of the remaining four proposals analyzed in the Environmental Impact Statement. These three proposals include: Proposal 2, Establishing timely reviews and approval procedures to address reconfiguration of existing air-to-ground target complexes on tactical ranges; Proposal 5, lowering the regular flight altitude floor over a portion of the Cabeza Prieta National Wildlife Refuge; and Proposal 7, allowing additional training in combat search and rescue and similar ground-based and combined air-ground operations. While no decision has been made for the final proposal at this time, the Air Force anticipates issuing an additional ROD at a future date once consultations are complete for this proposal.

The decision was based on matters discussed in the Final Environmental Impact Statement (EIS), inputs from the public and regulatory agencies, and other relevant factors. The Final EIS was made available to the public on November, 26, 2010 through a NOA in the Federal Register (Volume 75, Number 227, Page 72824) with a wait period that ended on December 27, 2010. On May 20, 2011 the Air Force signed the first ROD for six proposals that were analyzed in the Final EIS. This ROD documents only the decision of the Air Force with respect to the proposed Air Force actions analyzed in the Final EIS. Authority: This NOA is published pursuant to the regulations (40 CFR Part 1506.6) implementing the provisions of the NEPA of 1969 (42 U.S.C. 4321, et seq.) and the Air Force's Environmental Impact Analysis Process (EIAP) (32 CFR Parts 989.21(b) and 989.24(b)(7)).

FOR FURTHER INFORMATION CONTACT: Lisa McCarrick, 56 RMO/ESMP 7101 Jerstad Ln Bldg 500, Luke AFB, AZ 85309, 623-856-9475.

Henry Williams Jr,
Acting Air Force Federal Register Liaison Officer.

[FR Doc. 2013-12840 Filed 5-29-13; 8:45 am]

BILLING CODE 5001-10-P